DEPARTMENT OF THE INTERIOR

National Park Service

[NPS-WASO-BSD-CONC—NPS0037751; PPWOBSADC0 PPMVSCS1Y.Y00000; OMB Control Number 1024-NEW]

Agency Information Collection Activities; Customer Satisfaction Survey of NPS Concessioner Visitor Services

AGENCY: National Park Service, Interior.

ACTION: Notice of Information Collection; request for comment.

SUMMARY: In accordance with the Paperwork Reduction Act of 1995 we, the National Park Service (NPS) are proposing a new information collection.

DATES: Interested persons are invited to submit comments on or before September 23, 2024.

ADDRESSES: Written comments on this information collection request (ICR) can be sent to the NPS Information Collection Clearance Officer (ADIR-ICCO), 13461 Sunrise Valley Drive, (MS 244) Herndon, VA 20171 (mail); or phadrea_ponds@nps.gov (email). Please reference Office of Management and Budget (OMB) Control Number “1024-NEW (Concessioner's Performance Feedback)” in the subject line of your comments.

FOR FURTHER INFORMATION CONTACT: To request additional information about this ICR, contact Katy Canetta, Concession Specialist, WASO Commercial Services Program, Contract Management Branch, at katy_canetta@nps.gov (email) or (307) 250-6535 (telephone). Please reference OMB Control Number 1024-NEW (Concessioner's Performance Feedback) in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary for the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Authorized by the NPS Concessions Management Improvement Act of 1998 (54 U.S.C. 101911 et seq.), the NPS Commercial Services Program (CSP) is requesting to survey park visitors who use concessioner-run services and facilities, to monitor customer satisfaction. The NPS CSP proposes to integrate new park-specific survey questions into existing concessioner hospitality customer satisfaction surveys. Data from the new questions will be transmitted from concessioners to the NPS. The information collected will be used to evaluate the performance and quality of concessioner-provided services.

Title of Collection: Customer Satisfaction Survey of NPS Concessioner Visitor Services.

OMB Control Number: 1024-NEW.

Form Number: None.

Type of Review: New.

Respondents/Affected Public: Individuals and Households.

Total Estimated Number of Annual Responses: 70,000.

Estimated Completion Time per Response: 5 Mins.

Total Estimated Number of Annual Burden Hours: 5,833 hrs.

Respondent's Obligation: Voluntary.

Frequency of Collection: Once.

Total Estimated Annual Nonhour Burden Cost: None.

An agency may not conduct or sponsor nor is a person required to respond to a collection of information unless it displays a currently valid OMB control number.

The authority for this action is the Paperwork Reduction Act of 1995 (44 U.S.C. 3501 et seq.).

Phadrea Ponds,
Information Collection Clearance Officer, National Park Service.

[FR Doc. 2024-16388 Filed 7-24-24; 8:45 am]

BILLING CODE 4312-52-P